DEPARTMENT OF THE INTERIOR

Bureau of Land Management

[LLNVE01000.L19900000.DQ0000; MO:4500011511; 10-08807; TAS:14X1109]

Notice of Availability of the Draft Environmental Impact Statement for the Genesis Project, Eureka County, NV

AGENCY: Bureau of Land Management, Interior.

ACTION: Notice of availability.

SUMMARY: In accordance with the National Environmental Policy Act of 1969, as amended, the Bureau of Land Management (BLM) has prepared a Draft Environmental Impact Statement (EIS) for the Genesis Project and by this notice is announcing the opening of the comment period.

DATES: To ensure comments will be considered, the BLM must receive written comments on the Genesis Project Draft EIS within 45 days following the date the Environmental Protection Agency publishes its Notice of Availability in the Federal Register. The BLM will announce future meetings or hearings and any other public involvement activities at least 15 days in advance through public notices, media releases, and/or mailings.

ADDRESSES: You may submit comments related to the Genesis Project by any of the following methods:

• Fax: (775) 753-0255

• Mail: BLM Elko District Office, Attention Kirk Laird, EIS Project Manager, 3900 East Idaho Street, Elko, Nevada 89801

• E-mail: Kirk_Laird@nv.blm.gov or eiscommentselko@nv.blm.gov.

Copies of the Genesis Project Draft EIS are available in the BLM Elko District Office at the above address and at the following Web site: http://www.blm.gov/nv (click on Elko District link).

FOR FURTHER INFORMATION CONTACT: For further information, contact Kirk Laird, EIS Project Manager, telephone (775) 753-0200; address BLM Elko District Office, 3900 East Idaho Street, Elko, Nevada 89801; or e-mail Kirk_Laird@nv.blm.gov.

SUPPLEMENTARY INFORMATION: Newmont Mining Corporation's Genesis-Bluestar mining operations area is located in northeastern Nevada on the Carlin Trend, a 50-mile-long by 10-mile-wide geologic area that has produced more than 60 million ounces of gold from numerous mines over the last 30 years. The proposed action is to expand the Genesis Pit, develop the new Bluestar Ridge Pit, backfill the Beast and the Bluestar pits and partially backfill the Genesis Pit, expand the Section 36 and Section 5 Waste Rock Disposal Facilities, construct the necessary haul roads and access roads, and process 60 million tons of gold-bearing ore. The proposed project would disturb an additional 43 acres (25 acres of public land and 18 acres of private land) and provide for continued mining activities on approximately 1,092 acres of previously-disturbed lands.

The Draft EIS analyzes the potential environmental impacts of the Proposed Action and No Action alternative, and identifies measures to minimize adverse impacts. The BLM reviewed several action alternatives to the Proposed Action, but eliminated them from in-depth analysis in the Draft EIS because they provided no substantive benefits to the environment. Major issues brought forward during the public scoping process and addressed in the Draft EIS include:

(1) The cumulative impacts of mining and related actions on affected resources, for example water quality and quantity and wildlife habitat, in the Carlin Trend;

(2) The release of mercury associated with processing the 60 million tons of ore;

(3) The impacts of 12 additional years of active mining as it relates to continued employment and economic activity for the local area; and

(4) The impacts of a pit lake forming under the No Action alternative, but not in the action alternative.

The Proposed Action includes an Adaptive Management Plan which is analyzed in the Draft EIS and included as an appendix to the Draft EIS. The agency's preferred alternative is the Proposed Action as described above.

A Notice of Intent to Prepare an EIS for the Genesis Project was published in the Federal Register on March 18, 2008 [73 FR 14484]. Public participation was solicited through the media, mailings, the BLM Web site, and a public scoping meeting.

Please note that public comments and information submitted including names, street addresses, and e-mail addresses of persons who submit comments, will be available for public review and disclosure at the above address during regular business hours (8 a.m. to 4 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

Kenneth E. Miller,
District Manager, Elko.

Authority: 40 CFR 1506.6 and 1506.10.

[FR Doc. 2010-10011 Filed 4-29-10; 8:45 am]

BILLING CODE 4310-HC-P